DEPARTMENT OF THE INTERIOR

National Park Service

Draft Environmental Impact Statement/General Management Plan; Olympic National Park; Clallam County, WA

Summary: Pursuant to section 102(2)(C) of the National Environmental Policy Act of 1969, 42 U.S.C. 4332(2)(C) and the Council of Environmental Quality implementing regulations (40 CFR parts 1500-08), the National Park Service announces the availability of the Draft Environmental Impact Statement/General Management Plan (Draft EIS/GMP) for Olympic National Park. The purpose of the Draft EIS/GMP is to set forth the basic management philosophy for the park, to define resource conditions, wilderness objectives, and visitor experiences to be achieved within the park, and to provide the framework for addressing issues and achieving identified management objectives for the next 15 to 20 years. In addition to a “no-action” alternative (which would maintain current management), the Draft EIS/GMP describes and analyzes three “action” alternatives that respond to public concerns and issues identified during the scoping process, as well as NPS's conservation planning requirements. These alternatives present varying management strategies that address visitor use and the preservation of cultural and natural resources within the park. The potential environmental consequences of each alternative, and mitigation strategies, are identified and analyzed.

Scoping Background: A Notice of Intent announcing the preparation of the Draft EIS/GMP was published in the Federal Register on June 4, 2001. Public engagement has included public meetings, newsletter mailings, local press releases, and website postings. In June 2001 a scoping newsletter was distributed to approximately 800 people on the park's mailing list. In addition, during September and October 2001, public scoping meetings were held in several locations around the Olympic Peninsula and in Seattle and Silverdale, Washington. Hundreds of comments were received during the scoping process. In January 2002, a newsletter was distributed to summarize the planning issue and concerns brought forward during scoping, and to announce five workshops that were held in the area in late January to seek public assistance in developing alternatives. This was followed by the releases of a preliminary alternatives newsletter (distributed in May 2003) and a park update newsletter (distributed November 2004) to the project mailing list, which had reached approximately 1,200 individuals, agencies, and organizations.

Proposed Plan and Alternatives: The Draft EIS/GMP describes and analyzes the environmental impacts of the “no-action” alternative and three “action” alternatives. The Draft EIS/GMP also includes alternative maps which include specific information for each front country area of the park, and identifies the “environmentally preferred” alternative (Alternative D)

Alternative A constitutes the no-action alternative and serves as an environmental baseline to facilitate comparisons between “action” alternatives. This alternative assumes that existing programs, faculties, staffing, and funding would generally continue at their current levels, and current management practices would continue.

Alternative B emphasizes cultural and natural resource protection, and natural processes would have priority over visitor access in certain areas of the park. In general, the park would be managed as a large ecosystem preserve emphasizing wilderness management for resource conservation and protection, with a reduced number of faculties to support visitation. Some roads and faculties would be moved or closed to protect natural processes, and visitor access and services in sensitive areas would be reduced.

Alternative C emphasizes increased recreational and visitor opportunities. The natural and cultural resources would be protected through management actions and resource education programs. However, maintaining access to existing faculties would be a priority, and access would be retained to all existing front country areas, and increased by improving park roads to extend the season of use. New or expanded interpretation and educational faculties would be constructed.

Alternative D is the park's preferred alternative. It was developed using components of the other alternatives, emphasizing both the protection of park resources and improving visitor experiences. Management activities would use methods to minimize adverse effects on park resources to the extent possible. Access would be maintained to existing front country areas, but roads might be modified or relocated for resource protection and/or to maintain vehicular access. Visitor education and interpretative faculties would be improved or developed to improve visitor opportunities. The preferred alternative also proposes three boundary adjustments, which includes a land exchange with the U.S. Forest Service and partnering with Washington Department of Natural Resources, and acquiring private land by willing seller only.

Public Review and Comment: The Draft EIS/GMP is now available for public review. The document can be found on the Internet on the NPS Planning, Environment and Public Comment (PEPC) System Web site at http://parkplanning.nps.gov/public. Paper and electronic copies on CD-ROM are also available by request. Interested persons and organizations can obtain a copy by writing to Olympic National Park, c/o William G. Laitner, Superintendent, 600 East Park Avenue, Port Angeles, WA 98362, by telephoning 360-565-3004, or by e-mail to olym_gmp@nps.gov. The document is also available to be picked up in person during normal business hours at the headquarters of Olympic National Park, 600 East Park Avenue, Port Angeles, WA 98362, and at the Olympic National Park and Olympic National Forest Information Station in Forks, WA. In addition, the document may be reviewed at branches of the North Olympic Library System, Timberland Regional Libraries, Jefferson County Libraries, and area college and university libraries.

All written comments must be postmarked or transmitted not later than September 15, 2006. All comments will become part of the public record. Persons wishing to comment may do so by one of several ways. Responses are encouraged online using the electronic comment form at the NPS PEPC Web site (http://parkplanning.nps.gov). In addition, written comments can be mailed or faxed to Olympic National Park GMP, National Park Service, Denver Service Center, P.O. Box 25287, Denver, Colorado 80225 (fax: 303-969-2736). Comments may also be hand delivered during normal business hours to the headquarters of Olympic National Park at 600 East Park Avenue, Port Angeles, WA 98362 or may be transmitted to the park by e-mail to olym_gmp@nps.gov. In addition, oral and written comments may be offered at one of several public open houses to be conducted in August 2006. Confirmed details on dates, locations, and times for these open houses will be announced in local newspapers, on the park's Web site (http://www.nps.gov/olym), or may be obtained by telephone at (360) 565-3130.

Regardless of how written comments are submitted, please note that names and addresses of all respondents will become part of the public record. It is the practice of the NPS to make all comments, including names and addresses of respondents who provide that information, available for public review following the conclusion of the NEPA process. Individuals may request that the NPS withhold their name and/or address from public disclosure. If you wish to do so, you must state this prominently at the beginning of your letter or written response. For those commentators who wish to use the PEPC Web site, such a request can be made by checking the box “keep my contact information private”. NPS will honor all such requests to the extent allowable by law, but you should be aware that NPS may still be required to disclose your name and address pursuant to the Freedom of Information Act.

Decision Process: Following the release of the Draft EIS/GMP, all public and agency comments received will be carefully considered in preparing the final document. The final plan and EIS is anticipated to be completed during winter 2006-07 and its availability will be similarly announced in the Federal Register and via local and regional press media. Not sooner than 30 days following the release of the Final EIS/GMP a Record of Decision would be prepared.

Completion of the Final EIS/GMP does not guarantee funds and staff for implementing the approved plan. The NPS recognizes that this is along-term plan, and, in the framework of the plan, park managers would take incremental steps to reach park management goals and objectives. While some of the actions can be accomplished with little or no funding, some actions would require more detailed implementation plans, site specific environmental analysis and/or cultural compliance, and additional funds. The park would actively seek alternative sources of funding, but there is no guarantee that all the components of the plan would be implemented.

As a delegated EIS, the official responsible for the final decision is the Regional Director, Pacific West Region; subsequently the official with responsibility for implementing the approved plan would be the Superintendent, Olympic National Park.

Dated: April 11, 2006.
Cicely A. Muldoon,
Acting Regional Director, Pacific West Region.

Editorial Note: This document was received at the Office of the Federal Register on July 11, 2006.

[FR Doc. 06-6224 Filed 7-13-06; 8:45 am]

BILLING CODE 4312-KJ-M